DEPARTMENT OF LABOR

Office of the Secretary

Submission for OMB Review; Comment Request

December 6, 2000.

The Department of Labor (DOL) has submitted the following public information collection requests (ICRs) to the Office of Management and Budget (OMB) for review and approval in accordance with the Paperwork Reduction Act of 1995 (Pub. L. 104-13, 44 U.S.C. Chapter 35). A copy of each individual ICR, with applicable supporting documentation, may be obtaining by calling the Department of Labor. To obtain documentation for BLS, ETA, PWBA, and OASAM contact Karin Kurz ({202} 693-4127 or by E-mail to Kurz-Karin@dol.gov). To obtain documentation for ESA, MSHA, OSHA, and VETS contact Darrin King ({202} 693-4129 or by E-mail to King-Darrin@dol.gov).

Comments should be sent to Office of Information and Regulatory Affairs, Attn: OMB Desk Officer for BLS, DM, ESA, ETA, MSHA, OSHA, PWBA, or VETS, Office of Management and Budget, Room 10235, Washington, DC 20503 ({202} 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission or responses.

Type of Review: Revision of a currently approved collection.

Agency: Employment and Training Administration.

Title: Trade Act Participant Report (TAPR), a GPRA compliant data collection and reporting system.

OMB Number: 1205-0392.

Affected Public: State, Local, or Tribal government.; Federal Government.

Frequency: Quarterly.

Number of Respondents: 50.

Estimated Time Per Respondent: 47.5 Hours.

Total Burden Hours: 9,500.

Total Annualized capital/startup costs: $100,000.

Total annual costs (operating/maintaining systems or purchasing services): $225,000.

Description: A GPRA-compliant data collection and reporting system that supplies critical information on the operation of the Trade Adjustment Assistance program and the outcomes for participants.

Type of Review: New collection.

Agency: Employment and Training Administration.

Title: WIA Management Information and Reporting System.

OMB Number: 1205-0New.

Affected Public: State, Local, or Tribal government.

Form No. | Affected public | Number of respondents | Frequency | Average hours per response | Total burden hours
Individual records | State, local, or tribal govt | 53 | Annually | 13,272 | 703,416
ETA 9090 annual report | State, local, or tribal govt | 53 | Annually | .75 | 2,385
Customer survey | Participants and employers | 53,000 | Quarterly, annually | .83 | 4,417
Customer survey | Agency administration | 53 | Quarterly, annually | 500 | 26,500
Customer survey | Overhead | 53 | Quarterly, annually | 154 | 8,162
ETA 9091 quarterly report | State, local, or tribal govt | 53 | Quarterly | 16 | 3,392

Total Burden Hours: 748,272.

Total Annualized capital/startup costs: $919,213.

Total annual costs (operating/maintaining systems or purchasing services): $81,541,548.

Description: Selected standardized information pertaining to participants in WIA Title IB programs will be collected and reported for the purposes of general program oversight, evaluation, and performance assessment.

Ira L. Mills,
Departmental Clearance Officer.

[FR Doc. 00-31599 Filed 12-11-00; 8:45 am]

BILLING CODE 4510-30-M